SMALL BUSINESS ADMINISTRATION

[Disaster Declaration #20443 and #20444; MINNESOTA Disaster Number MN-20004]

Presidential Declaration Amendment of a Major Disaster for the State of Minnesota

AGENCY: U.S. Small Business Administration.

ACTION: Amendment 2.

SUMMARY: This is an amendment of the Presidential declaration of a major disaster for the State of Minnesota (FEMA-4797-DR), dated 07/29/2024.

Incident: Severe Storms and Flooding.

Incident Period: 06/16/2024 through 07/04/2024.

DATES: Issued on 09/26/2024.

Physical Loan Application Deadline Date: 10/27/2024.

Economic Injury (EIDL) Loan Application Deadline Date: 04/29/2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for the State of Minnesota, dated 07/29/2024, is hereby amended to extend the deadline for filing applications for physical damages as a result of this disaster to 10/27/2024.

All other information in the original declaration remains unchanged.

(Catalog of Federal Domestic Assistance Number 59008)

Francisco Sánchez, Jr.,
Associate Administrator, Office of Disaster Recovery & Resilience.

[FR Doc. 2024-22583 Filed 10-1-24; 8:45 am]

BILLING CODE 8026-09-P